DEPARTMENT OF DEFENSE

Department of the Air Force

[Docket ID: USAF-2012-0016]

Proposed Collection; Comment Request

AGENCY: United States Security Forces Center, Headquarters, DoD.

ACTION: Notice.

In compliance with Section 3506(c)(2)(A) of the Paperwork Reduction Act of 1995, the Office of the United States Security Forces Center, Headquarters announces the proposed extension of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by October 29, 2012.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to HQ AFSFC/SFOP, ATTN: TSgt Heather M. Cain/TSgt Janaea E. Warner,1517 Billy Mitchell Blvd., Lackland AFB, TX 78236-0119, or call SFOP, Security Forces Police Services, at 210-925-5050/0266.

Title; Associated Form; and OMB Number: Security Forces Management Information System (SFMIS), AF Form 1199A, 1199B, 1199C, 1199D, USAF Restricted Area Badge; AF Form 75, Visitor Pass; AF 2586, Unescorted Entry Authorization Certificate and OMB Number 0701-TBD.

Needs and Uses: The Security Forces Management Information System (SFMIS) was developed primarily to meet the Congressionally-mandated Defense Incident-Based Reporting System (DIBRS) requirements and improve Air Force Security Forces day-to-day operations IAW 10 U.S.C. 8013, Secretary of the Air Force; 18 U.S.C. 922 note, DoD Directive 5200.27, Air Force Instruction 31-203, Security Forces Management Information System; Air Force Instruction 31-101, Integrated Defense and E.O. 9397 (SSN), as amended. SFMIS also provides Restricted Area Badge creation and Installation Access Control in those cases where DBIDS is not fully deployed.

The Pass & ID module in SFMIS automated most of SF clerical tasks, a majority of administrative tasks formerly performed manually are now done online via SFMIS, (i.e. AF Form 1199A, 1199B, 1199C, 1199D, USAF Restricted Area Badge; AF Form 75, Visitor Pass; AF 2586, Unescorted Entry Authorization Certificate) which document installation access and restricted area.

Affected Public: Non-military personnel (civilians) and contractors business or other for profit; not-for-profit institutions.

Annual Burden Hours: 28,000.

Number of Respondents: 4.

Responses per Respondent: 28,000.

Annual Number of Responses: 112,000.

Average Burden per Response: 15 minutes.

Frequency: Daily.

SUPPLEMENTARY INFORMATION:

Summary of Information Collection

Respondents are DoD personnel assigned to Security Forces units who provide visitor passes for installation access and restricted area badges for controlled and restricted area access. SFMIS maintains personal information such as: Full names, Social Security Numbers (SSN); date of birth, home address, phone numbers, alias; race ethnicity, sex, height, weight, eye hair color, and any approved document (must be a picture ID) that is accepted as proof of identity, it must not be expired and has to be valid. SFMIS provides Restricted Area Badge creation and Installation Access Control in those cases where DBIDS is not fully deployed.

The Badge/ID panel in the Pass & ID Module is used to record restricted and controlled area badges or identification cards using the information collected on the AF 2586. SFMIS will maintain an inventory on the stored data and create an Entry Authority List (EAL) or Master Entry Authority List (MEAL). SFMIS also prints restricted area badges, maintains the inventory and prints a destruction certificate for destroyed restricted area badges.

This Visitor Pass panel in the Pass & ID Module is used to complete visitor pass requests and view and print the AF Form 75. An electronic signature pad can be set up with SFMIS to capture the visitor's electronic signature. Visitor passes can be completed two different ways. First, SF personnel can create a new visitor pass for a customer by entering the visitor's information into the system. Secondly, SF personnel can search the system for a pending web registration or kiosk request; select the name in the search results grid and it will populate the panel with the existing information. Visitor passes are stored in SFMIS for a 90 day period. During these 90 days, previously issued visitor passes can be recalled. Visitor passes may be recalled as an investigative tool or it can be used to issue a new pass based on the previous information.

Dated: August 22, 2012.
Aaron Siegel,
Alternate OSD Federal Register Liaison Officer, Department of Defense.

[FR Doc. 2012-21098 Filed 8-27-12; 8:45 am]

BILLING CODE 5001-06-P